DEPARTMENT OF COMMERCE

National Oceanic and Atmospheric Administration

RIN 0648-XA666

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a public meeting via webinar of the Ecosystem Scientific and Statistical Committee (SSC).

DATES: The meeting will convene at 8 a.m. Eastern time on Thursday, September 15, 2011 and is expected to conclude by 12 p.m.

ADDRESSES: The meeting will be held via webinar and will be accessible via Internet. Please go to the Gulf of Mexico Fishery Management Council's Web site at http://www.gulfcouncil.org for instructions.

Council address: Gulf of Mexico Fishery Management Council, 2203 N. Lois Avenue, Suite 1100, Tampa, FL 33607.

FOR FURTHER INFORMATION CONTACT: Dr. Karen Burns, Ecosystem Management Specialist; Gulf of Mexico Fishery Management Council; telephone: (813) 348-1630.

SUPPLEMENTARY INFORMATION: The Ecosystem Scientific and Statistical Committee will convene to discuss details concerning a proposed joint workshop of the Ecosystem Scientific and Statistical Committee and the Socio-economic Scientific and Statistical Committee to begin the process of determining a mechanism for including socio-economic input into Ecosystem Scientific and Statistical Committee recommendations moving toward ecosystem based management. The Ecosystem Scientific and Statistical Committee will also discuss and develop their Strategic Plan, and a presentation on the prior Standing Scientific and Statistical Committee meeting will be given.

Interested persons must register to participate in the webinar via the Gulf Council's Web site at http://www.gulfcouncil.org. Participation may be by computer or telephone. Agenda and other related materials can be obtained by calling (813) 348-1630. Materials will also be available to download from the Gulf Council's ftp site. Click on the ftp server under Quick Links, scroll to the Ecosystem folder. In the Ecosystem folder click on the directory named Ecosystem SSC meeting-2011-09.

Although other non-emergency issues not on the agenda may come before the Ecosystem Scientific and Statistical Committee for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: August 23, 2011.
Tracey L. Thompson,
Acting Director, Office of Sustainable Fisheries, National Marine Fisheries Service.

[FR Doc. 2011-21890 Filed 8-25-11; 8:45 am]

BILLING CODE 3510-22-P